DEPARTMENT OF THE TREASURY

Office of the Comptroller of the Currency

Agency Information Collection Activities: Revision of an Approved Information Collection; Submission for OMB Review; Company-Run Annual Stress Test Reporting Template and Documentation for Covered Institutions Under the Dodd-Frank Wall Street Reform and Consumer Protection Act

AGENCY: Office of the Comptroller of the Currency (OCC), Treasury.

ACTION: Notice and request for comment.

SUMMARY: The OCC, as part of its continuing effort to reduce paperwork and respondent burden, invites the general public and other federal agencies to take this opportunity to comment on a continuing information collection, as required by the Paperwork Reduction Act of 1995 (PRA).

In accordance with the requirements of the PRA, the OCC may not conduct or sponsor, and the respondent is not required to respond to, an information collection unless it displays a currently valid Office of Management and Budget (OMB) control number.

The OCC is soliciting comment concerning a revision to a regulatory reporting requirement for national banks and federal savings associations titled “Company-Run Annual Stress Test Reporting Template and Documentation for Covered Institutions under the Dodd-Frank Wall Street Reform and Consumer Protection Act.” The OCC also is giving notice that it has sent the collection to OMB for review.

DATES: Comments must be received by March 4, 2019.

ADDRESSES: Commenters are encouraged to submit comments by email, if possible. You may submit comments by any of the following methods:

• Email: prainfo@occ.treas.gov.

• Mail: Legislative and Regulatory Activities Division, Office of the Comptroller of the Currency, Attention: 1557-0319, 400 7th Street SW, Suite 3E-218, Washington, DC 20219.

• Hand Delivery/Courier: 400 7th Street SW, Suite 3E-218, Washington, DC 20219.

• Fax: (571) 465-4326.

Instructions: You must include “OCC” as the agency name and “1557-0319” in your comment. In general, the OCC will publish your comment on www.reginfo.gov without change, including any business or personal information that you provide, such as name and address information, email addresses, or phone numbers. Comments received, including attachments and other supporting materials, are part of the public record and subject to public disclosure. Do not include any information in your comment or supporting materials that you consider confidential or inappropriate for public disclosure.

Additionally, please send a copy of your comments by mail to: OCC Desk Officer, 1557-0319, U.S. Office of Management and Budget, 725 17th Street NW, #10235, Washington, DC 20503 or by email to oira_submission@omb.eop.gov.

You may review comments and other related materials that pertain to this information collection ¹ following the close of the 30-Day comment period for this notice by any of the following methods:

¹ On October 31, 2018, 83 FR 54805, the OCC published a 60-day notice for this information collection.

• Viewing Comments Electronically: Go to www.reginfo.gov. Click on the “Information Collection Review” tab. Underneath the “Currently under Review” section heading, from the drop-down menu, select “Department of Treasury” and then click “submit.” This information collection can be located by searching by OMB control number “1557-0319” or “Company-Run Annual Stress Test Reporting Template and Documentation for Covered Institutions with Total Consolidated Assets of $100 Billion or More under the Dodd-Frank Wall Street Reform and Consumer Protection Act.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

• Viewing Comments Personally: You may personally inspect comments at the OCC, 400 7th Street SW, Washington, DC. For security reasons, the OCC requires that visitors make an appointment to inspect comments. You may do so by calling (202) 649-6700 or, for persons who are deaf or hearing impaired, TTY, (202) 649-5597. Upon arrival, visitors will be required to present valid government-issued photo identification and submit to security screening in order to inspect comments.

FOR FURTHER INFORMATION CONTACT: Shaquita Merritt, Clearance Officer, (202) 649-5490 or, for persons who are deaf or hearing impaired, TTY, (202) 649-5597, Chief Counsel's Office, Office of the Comptroller of the Currency, 400 7th Street SW, Suite 3E-218, Washington, DC 20219. In addition, copies of the templates referenced in this notice can be found on the OCC's website under News and Issuances (http://www.occ.treas.gov/tools-forms/forms/bank-operations/stress-test-reporting.html).

SUPPLEMENTARY INFORMATION: The OCC is requesting comment on the following revision to an approved information collection:

Title: Company-Run Annual Stress Test Reporting Template and Documentation for Covered Institutions Under the Dodd-Frank Wall Street Reform and Consumer Protection Act.

OMB Control No.: 1557-0319.

Type of Review: Revision.

Description: Section 165(i)(2) of the Dodd-Frank Wall Street Reform and Consumer Protection Act ² (Dodd-Frank Act) requires certain financial companies, including national banks and federal savings associations, to conduct annual stress tests ³ and requires the primary financial regulatory agency ⁴ of those financial companies to issue regulations implementing the stress test requirements.⁵ Under section 165(i)(2), a covered institution is required to submit to the Board of Governors of the Federal Reserve System (Board) and to its primary financial regulatory agency a report at such time, in such form, and containing such information as the primary financial regulatory agency may require.⁶

² Public Law 111-203, 124 Stat. 1376, July 2010.

³ 12 U.S.C. 5365(i)(2)(A).

⁴ 12 U.S.C. 5301(12).

⁵ 12 U.S.C. 5365(i)(2)(C).

⁶ 12 U.S.C. 5365(i)(2)(B).

On October 9, 2012, the OCC published in the Federal Register a final rule implementing the section 165(i)(2) annual stress test requirement.⁷ This rule describes the reports and information collections required to meet the reporting requirements under section 165(i)(2). These information collections will be given confidential treatment (5 U.S.C. 552(b)(4)) to the extent permitted by law.

⁷ 77 FR 61238 (October 9, 2012) (codified at 12 CFR part 46).

On May 24, 2018, the Economic Growth, Regulatory Relief, and Consumer Protection Act (EGRRCPA) amended provisions in the Dodd-Frank Act and provided that, eighteen months after EGRRCPA's enactment, financial companies with total consolidated assets of less than $250 billion that are not bank holding companies will no longer be subject to the company-run stress testing requirements in section 165(i)(2) of the Dodd-Frank Act. In addition, on EGRRCPA's date of enactment, bank holding companies under $100 billion in total consolidated assets were no longer subject to section 165(i)(2). In order to avoid unnecessary burden for depository institutions and to maintain consistency between bank holding companies and depository institutions, the OCC, Board, and Federal Deposit Insurance Corporation extended the deadlines for all regulatory requirements related to section 165(i)(2) company-run stress testing for depository institutions with average total consolidated assets of less than $100 billion until November 25, 2019 (at which time both statutory exemptions will be in effect).⁸ The OCC, in coordination with the Board and Federal Deposit Insurance Corporation, is in the process of revising its stress testing regulation to incorporate EGRRPCA's amendments.

⁸ https://www.occ.gov/news-issuances/news-releases/2018/nr-ia-2018-69a.pdf.

In 2012, the OCC first implemented the reporting templates referenced in the final rule. See 77 FR 49485 (August 16, 2012) and 77 FR 66663 (November 6, 2012). The OCC is now revising them as described below.

The OCC intends to use the data collected to assess the reasonableness of the stress test results of covered institutions and to provide forward-looking information to the OCC regarding a covered institution's capital adequacy. The OCC also may use the results of the stress tests to determine whether additional analytical techniques and exercises could be appropriate to identify, measure, and monitor risks at the covered institution. The stress test results are expected to support ongoing improvement in a covered institution's stress testing practices with respect to its internal assessments of capital adequacy and overall capital planning.

The OCC recognizes that many covered institutions are required to submit reports using Comprehensive Capital Analysis and Review (CCAR) reporting form FR Y-14A.⁹ The OCC also recognizes the Board has modified the FR Y-14A and, to the extent practical, the OCC has kept its reporting requirements consistent with the Board's FR Y-14A in order to minimize burden on covered institutions.¹⁰ Therefore, the OCC is revising its reporting requirements to mirror the Board's proposed FR Y-14A for covered institutions. The changes include changes to accommodate the revised asset threshold necessitated by EGRRCPA. The changes also include the removal of the Retail Repurchase worksheet and various clarifications in the instructions. In addition to the changes that parallel the Board's changes to the FR Y-14A, the OCC is also removing or modifying certain items on the OCC Supplemental Schedule, which collects additional information not included in the FR Y-14A.

⁹ http://www.federalreserve.gov/reportforms.

¹⁰ 83 FR 58771 (November 21, 2018).

The OCC received one comment on the proposed revisions. The commenter requested clarification about an item on the OCC Supplemental Schedule. The information referenced by the commenter will not be collected in the revised Supplemental Schedule.

Affected Public: Businesses or other for-profit.

Estimated Number of Respondents: 8.

Estimated Total Annual Burden: 4,292 hours.

The OCC believes that the systems covered institutions use to prepare the FR Y-14 reporting templates to submit to the Board will also be used to prepare the reporting templates described in this notice. All comments will become a matter of public record. Comments continue to be invited on:

(a) Whether the collection of information is necessary for the proper performance of the functions of the OCC, including whether the information has practical utility;

(b) The accuracy of the OCC's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated: January 25, 2019.
Theodore J. Dowd,
Deputy Chief Counsel, Office of the Comptroller of the Currency.

[FR Doc. 2019-00418 Filed 1-30-19; 8:45 am]

BILLING CODE 4810-33-P